ENVIRONMENTAL PROTECTION AGENCY

40 CFR Part 52

[Docket No. EPA-R02-OAR-2006-0342; FRL-8167-8]

Approval and Promulgation of Implementation Plans; Carbon Monoxide Maintenance Plan, Conformity Budgets, Emissions Inventories; State of New Jersey

AGENCY: Environmental Protection Agency (EPA).

ACTION: Proposed rule.

SUMMARY: The Environmental Protection Agency (EPA) is proposing to approve a State Implementation Plan (SIP) revision submitted by the State of New Jersey. This revision will establish an updated ten-year carbon monoxide (CO) maintenance plan for the Nine Not-Classified Areas in the State (the City of Atlantic City, the City of Burlington, the Borough of Freehold, the Town of Morristown, the Borough of Penns Grove, the City of Perth Amboy, the Borough of Somerville, the Toms River Area, and the City of Trenton) and Camden County. In addition, this document proposes to approve revisions to the CO, NOX, VOC, and PM2.5 motor vehicle emissions budgets for Northern New Jersey. Finally, this document also proposes to approve revisions to the general conformity budget for McGuire Air Force Base and the 2002 base year emissions inventory.

The Nine Not Classified Areas and Camden County were redesignated to attainment of the CO National Ambient Air Quality Standard (NAAQS) on February 5, 1996 and maintenance plans were also approved at that time. By this action, EPA is proposing to approve the New Jersey Department of Environmental Protection's (New Jersey) second maintenance plans for these areas because they provide for continued attainment for an additional ten years of the CO NAAQS.

DATES: Comments must be received on or before June 8, 2006.

ADDRESSES: Submit your comments, identified by Docket ID No. EPA-R02-OAR-2006-0342, by one of the following methods:

• http://www.regulations.gov: Follow the on-line instructions for submitting comments.

• E-mail: Werner.Raymond@epa.gov.

• Fax: 212-637-3901.

• Mail: Raymond Werner, Chief, Air Programs Branch, Environmental Protection Agency, Region 2 Office, 290 Broadway, 25th Floor, New York, New York 10007-1866.

• Hand Delivery: Raymond Werner, Chief, Air Programs Branch, Environmental Protection Agency, Region 2 Office, 290 Broadway, 25th Floor, New York, New York 10007-1866. Such deliveries are only accepted during the Regional Office's normal hours of operation. The Regional Office's official hours of business are Monday through Friday, 8:30 to 4:30 excluding Federal holidays.

Instructions: Direct your comments to Docket ID No. EPA-R02-OAR-2006-0342. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Henry Feingersh feingersh.henry@epa.gov for general questions, Raymond Forde forde.raymond@epa.gov for emissions inventory questions, or Matthew Laurita laurita.matthew@epa.gov for mobile source related questions at the U.S. Environmental Protection Agency, Air Programs Branch, 290 Broadway, 25th Floor, New York, NY 10007-1866, telephone number (212) 637-4249, fax number (212) 637-3901.

Copies of the State submittals are available at the following addresses for inspection during normal business hours:

Environmental Protection Agency, Region II Office, Air Programs Branch, 290 Broadway, 25th Floor, New York, New York 10007-1866.

New Jersey Department of Environmental Protection, Office of Energy, Bureau of Air Quality Planning, 401 East State Street, CN027, Trenton, New Jersey 08625.

SUPPLEMENTARY INFORMATION: This action is being proposed under a procedure called parallel processing. Under parallel processing, EPA proposes action on a state submission before it has been formally adopted and submitted to EPA, and then EPA will take final action on its proposal if: (1) The state's final submission is substantially unchanged from the submission on which this proposal is based, or (2) if significant changes in the state's final submission are anticipated and adequately described in EPA's proposal as a basis for EPA's proposed action.

EPA views the SIP revisions proposed in today's proposal as separable actions. This means that if EPA receives adverse comments on particular portions of this notice and not on other portions, EPA may choose not to take final action at the same time in a single notice on all of these SIP revisions. Instead, EPA may choose to take final action on these SIP revisions in separate notices.

For detailed information on New Jersey's SIP revisions see the Technical Support Document, prepared in support of today's proposed action. A copy of the TSD is available upon request from the EPA Regional Office listed in the ADDRESSES section or it can be viewed at http://www.regulations.gov.

The following table of contents describes the format for this section:

I. What Is the Nature of EPA's Action?

II. CO Limited Maintenance Plan for Camden County and Nine Not-Classified Areas

A. What Is a Limited Maintenance Plan?

B. What Is included in a Maintenance Plan?

1. Attainment Inventory

2. Maintenance Demonstration

3. Monitoring Network

4. Verification of Continued Attainment

5. Contingency Plan

a. Control Measures

b. Contingency Measures

6. Conformity

III. Revisions To the CO Motor Vehicle Emissions Budgets for Northern New Jersey

A. Are these budgets approvable?

IV. Revisions To the NOX and VOC Motor Vehicle Emissions Budgets for Northern New Jersey

A. Are the Revised Motor Vehicle Emissions Budgets Consistent With New Jersey's 1-Hour Ozone Attainment Demonstration?

B. Are these budgets approvable?

V. PM2.5 Motor Vehicle Emissions Budgets for Northern New Jersey

A. Are These Budgets Approvable?

VI. Revisions to the General Conformity Budget for McGuire Air Force Base

A. Are these budgets approvable?

VII. New Jersey Emissions Inventory

A. 2002 Base Year Inventory

B. 2009 Projection Year Inventory

VIII. Conclusions

IX. Statutory and Executive Order Reviews

I. What Is the Nature of EPA's Action?

EPA is proposing to approve an updated ten-year CO maintenance plan for the Nine Not-Classified Areas (the City of Atlantic City, the City of Burlington, the Borough of Freehold, the Town of Morristown, the Borough of Penns Grove, the City of Perth Amboy, the Borough of Somerville, the Toms River Area, and the City of Trenton) and Camden County in New Jersey. On June 28, 1996, the EPA approved a request from New Jersey to redesignate the Nine Not-Classified Areas and Camden County to attainment of the CO NAAQS (61 FR 33678). In addition, the EPA also approved at that time a ten-year CO maintenance plan for each of those areas. The Clean Air Act (the Act) requires that an area redesignated to attainment of the CO NAAQS must submit a second ten-year CO maintenance Plan to show how the area will continue to attain the CO standard for an additional ten years. On February 21, 2006, New Jersey submitted a second ten-year CO maintenance plan for the Nine Not-Classified Areas and Camden County and requested that EPA approve the plan. The following sections describe how the EPA made its determination proposing to approve the second ten-year maintenance plan. EPA is also proposing to approve revisions to the CO, NOX, VOC, and PM2.5 motor vehicle emissions budgets for Northern New Jersey. Finally, EPA also proposes to approve revisions to the general conformity budget for McGuire Air Force Base and the 2002 base year emissions inventory. These additional SIP revisions are discussed in sections III through VII.

II. CO Limited Maintenance Plan for Camden County and Nine Not-Classified Areas

A. What is a Limited Maintenance Plan?

A maintenance plan is a SIP revision that must demonstrate continued attainment of the applicable NAAQS in the maintenance area for at least ten years. The Act requires that a second ten-year plan be submitted in order to assure that the area will continue to stay in compliance with the relevant NAAQS. For the Nine Not Classified Areas and Camden County, New Jersey is proposing to utilize EPA's limited maintenance plan approach, as detailed in the EPA guidance memorandum, “Limited Maintenance Plan Option for Nonclassifiable CO Nonattainment Areas” from Joseph Paisie, Group Leader, Integrated Policy and Strategies Group, Office of Air Quality and Planning Standards OAQPS, dated October 6, 1995. Pursuant to this approach, EPA will consider the maintenance demonstration satisfied for “not classified” areas if the monitoring data show the design value is at or below 7.65 parts per million (ppm), or 85 percent of the level of the 8-hour CO NAAQS. The design value must be based on eight consecutive quarters of data. For such areas, there is no requirement to project emissions of air quality over the maintenance period. EPA believes if the area begins the maintenance period at, or below, 85 percent of the CO 8 hour NAAQS, the applicability of PSD requirements, the control measures already in the SIP, and Federal measures, should provide adequate assurance of maintenance over the initial 10-year maintenance period. In addition, the design value for the area must continue to be at or below 7.65 ppm until the time of final EPA action on the redesignation.

B. What Is Included in a Maintenance Plan?

Section 175A of the Act sets forth the elements of a maintenance plan for areas seeking redesignation from nonattainment to attainment. The initial and subsequent ten-year plans must each demonstrate continued attainment of the applicable NAAQS for at least ten years after approval. In this notice, EPA is proposing action on the second ten-year maintenance plan which covers the period from 2008 to 2017. The specific elements of a maintenance plan are:

1. Attainment Inventory

Since New Jersey's first ten-year maintenance plan contained an attainment inventory, this second ten-year maintenance plan did not need to include another one. However, given the amount of time that has passed since that submittal, New Jersey thought it more appropriate to submit a 2002 inventory which is discussed later in this notice. Since this was a Limited Maintenance Plan submittal, no projected inventories were required.

EPA's October 6, 1995 Limited Maintenance Plan guidance states that for inventory purposes the State is only required to submit an attainment inventory to EPA that is based on monitoring data which shows attainment. There is no requirement to project emissions over the maintenance period. This means if 2002 is a calendar year which has monitoring data which demonstrates attainment of the standard, the 2002 base year inventory can be used as the attainment year inventory and no projection inventories are required over the years of the maintenance period. Only calendar year 2002 summary emissions data (based on winter season day) are required. In addition, the inventory should be consistent with EPA's most recent guidance on emission inventories for nonattainment areas available at the time and should include emissions during the time period associated with the monitoring data showing attainment.

New Jersey submitted a limited maintenance plan which included a 2002 base year emissions inventory. The 2002 inventory is also classified as the attainment year inventory for the limited maintenance plan. New Jersey has elected 2002 because it is the attainment year base year that will be used for the limited maintenance plan and 2002 represents one of the years of violation free monitored data in the area. The inventory included peak winter season daily emissions from stationary point, stationary area, non-road mobile, and on-road mobile sources of CO. These emission estimates were prepared in accordance with EPA guidance.

EPA is approving the CO inventory for the counties of Atlantic, Burlington, Mercer, Middlesex, Monmouth, Morris, Ocean, Salem and Somerset (the 9 non-classified areas) and Camden County. Details of the inventory review are located in section VII.A. of this notice. A more detailed discussion of how the emission inventory was reviewed and the results are presented in the technical support document.

Tables 1 and 2 present a summary of the 2002 CO peak winter season daily emissions estimates in tons per day for the nine not classified areas and Camden County:

Table 1.—2002 Attainment Inventory Nine Not Classified Areas Carbon Monoxide Emission Inventory
[Tons/peak winter season day]
County | Point | Area | Nonroad mobile | Onroad mobile | Total
Atlantic | 0.48 | 62.98 | 21.57 | 153.15 | 238.18
Burlington | 1.42 | 59.62 | 54.00 | 308.90 | 423.94
Mercer | 1.46 | 14.32 | 43.01 | 224.90 | 283.69
Middlesex | 8.27 | 6.34 | 107.85 | 531.04 | 653.50
Monmouth | 0.72 | 30.42 | 78.43 | 423.04 | 532.61
Morris | 1.23 | 46.59 | 97.30 | 393.14 | 538.26
Ocean | 1.11 | 47.69 | 40.31 | 257.31 | 346.42
Salem | 2.21 | 13.72 | 6.97 | 50.24 | 73.14
Somerset | 1.17 | 11.65 | 47.55 | 211.93 | 272.30
Nine Not Classified Areas Total | 18.07 | 293.33 | 496.99 | 2,553.65 | 3,362.04

Table 2.—2002 Attainment Inventory Camden County Carbon Monoxide Emission Inventory
[Tons/peak winter season day]
County | Point | Area | Nonroad mobile | Onroad mobile
Camden | 3.30 | 18.42 | 53.39 | 269.10

2. Maintenance Demonstration

New Jersey has met the Limited Maintenance Plan air quality criteria requirement by demonstrating that its highest monitored design value is less than 85 percent (7.65 parts per million) of the CO standard of 9.0 parts per million. The highest monitored design value for the 2002-2003 design year was 4.4 parts per million. In addition, New Jersey commits to continued implementation of all other federal and State measures already implemented as part of its CO SIP. Thus, according to the Limited Maintenance Guidance, emission projections are not required.

3. Monitoring Network

New Jersey continues to operate its CO monitoring network and will continue to work with the USEPA through the air monitoring network review process as required by 40 CFR part 58 to determine the adequacy of its network. New Jersey will continue annual reviews of its data in order to verify continued attainment of the NAAQS. As mentioned earlier, all of New Jersey's 8-hour design values are well below the 9.0 ppm 8-hour NAAQS for CO with the highest monitor reading 4.4 ppm. This can be seen in Table 3.

Table 3.—Design Values for CO in New Jersey
[8-hour standard—9 parts per million]
Monitoring location | 2002-2003 design value (parts per million)
Ancora S.H. | 0.8
Burlington | 2.5
Camden Lab ¹ | 2.1
East Orange | 4.2
Elizabeth | 4.4
Elizabeth Lab | 3.1
Fort Lee ² | 2.6
Freehold | 2.2
Hackensack | 3.4
Jersey City | 2.9
Morristown | 2.4
Newark Lab ³ | 2.9
Perth Amboy | 2.5
Notes:
¹ Data not available October-December 2003.
² Data not available July-August 2002.
³ Data not available July-December 2003.

In its SIP revision, New Jersey used the 2002-2003 design values since they coincide with the 2002 emissions inventory. EPA reviewed more recent data in addition to the 2002-2003 data and found the maximum 2004-2005 design value for New Jersey to be 3.4 ppm, which continues to show attainment of the NAAQS.

4. Verification of Continued Attainment

New Jersey will verify that the Nine Not-Classified Areas and Camden County areas continue to attain the CO NAAQS through an annual review of its monitoring data. If any design value exceeds 7.65 ppm, New Jersey will coordinate with USEPA Region II to verify and evaluate the data and then, if warranted, develop a full maintenance plan for the affected maintenance area.

5. Contingency Plan

Section 175A(d) of the Act requires that a maintenance plan include a contingency plan which includes contingency measures, as necessary, to promptly correct any violation of the NAAQS that occurs after redesignation of the area. Contingency measures do not have to be fully adopted at the time of redesignation. However, the contingency plan is considered to be an enforceable part of the SIP and should ensure that the contingency measures are adopted expeditiously once they are triggered by a specified event. In addition, the contingency plan includes a requirement that the State continue to implement all control measures used to bring the area into attainment.

The triggers specified in New Jersey's previous maintenance plan are included in this Limited Maintenance Plan. If air quality monitoring data indicate that the CO NAAQS were exceeded, New Jersey will analyze the data to determine the cause of the violation. If it is determined that the violation was caused by a non-local motor vehicle usage event, then the State will institute the contingency measures described below.

a. Control Measures

New Jersey has implemented a number of measures to control motor vehicle CO emissions. Emission reductions achieved through the implementation of these control measures are enforceable. These measures include the Federal Motor Vehicle Control Program, Federal reformulated gasoline, New Jersey's pre-1990 modifications to its inspection and maintenance (I/M) program, and local transportation control measures.

The State of New Jersey has demonstrated that actual enforceable emission reductions are responsible for the air quality improvement and that the CO emissions in the base year are not artificially low due to local economic downturn. EPA finds that the combination of existing EPA-approved SIP and Federal measures contribute to the permanence and enforceability of reduction in ambient CO levels that have allowed Camden County to attain the NAAQS since 1990 and the nine not-classified areas to attain since 1986.

New Jersey commits to continuing to implement all control measures used to bring the area into attainment.

b. Contingency Measure

The State plans to continue to use the contingency measure from the original maintenance plan. The plan included implementation of an enhanced I/M program. This program is fully operational and the State commits to meet the performance standard for an enhanced I/M program in an effort to maintain the CO NAAQS. Although the plan is currently in place, EPA guidance allows for it to act as a contingency measure. In addition, since we had approved this measure in the previous maintenance plan, we are proposing to approve it in this notice.

6. Conformity

Section 176(c) of the Act defines conformity as meeting the SIP's purpose of eliminating or reducing the severity and number of violations of the NAAQS and achieving expeditious attainment of such standards. The Act further defines transportation conformity to mean that no Federal transportation activity will: (1) Cause or contribute to any new violation of any standard in any area; (2) increase the frequency or severity of any existing violation of any standard in any area; or (3) delay timely attainment of any standard or any required interim emission reductions or other milestones in any area. The Federal transportation conformity rule, 40 CFR part 93 subpart A, sets forth the criteria and procedures for demonstrating and assuring conformity of transportation plans, programs and projects which are developed, funded or approved by the U.S. Department of Transportation, and by metropolitan planning organizations or other recipients of federal funds under Title 23 U.S.C. or the Federal Transit Laws (49 U.S.C. chapter 53).

The transportation conformity rule applies within all nonattainment and maintenance areas. As prescribed by the Rule, once an area has an applicable SIP with motor vehicle emissions budgets, the expected emissions from planned transportation activities must be consistent with (“conform to”) such established budgets for that area.

In the case of the Nine Not Classified Areas and Camden County CO limited maintenance plan areas, however, the emissions budgets may be treated as essentially not constraining for the length of this second maintenance period as long as the area continues to meet the limited maintenance criteria, because there is no reason to expect that these areas will experience so much growth in that period that a violation of the CO NAAQS would result. In other words, emissions from on-road transportation sources need not be capped for the maintenance period because it is unreasonable to believe that emissions from such sources would increase to a level that would threaten the air quality in this area for the duration of this maintenance period. Therefore, for the limited maintenance plan CO maintenance area, all Federal actions that require conformity determinations under the transportation conformity rule are considered to satisfy the regional emissions analysis and “budget test” requirements in 40 CFR 93.118 of the rule.

Since limited maintenance plan areas are still maintenance areas, however, transportation conformity determinations are still required for transportation plans, programs and projects. Specifically, for such determinations, transportation plans, transportation improvement programs, and projects must still demonstrate that they are fiscally constrained (40 CFR part 108) and must meet the criteria for consultation and Transportation Control Measure (TCM) implementation in the conformity rule (40 CFR 93.112 and 40 CFR 93.113, respectively). In addition, projects in limited maintenance areas will still be required to meet the criteria for CO hot spot analyses to satisfy “project level” conformity determinations (40 CFR 93.116 and 40 CFR 93.123) which must incorporate the latest planning assumptions and models that are available. All aspects of transportation conformity (with the exception of satisfying the emission budget test) will still be required. Approval of the limited maintenance plan will not supersede the current 2007 motor vehicle emissions budget. Conformity determinations conducted prior to the end of 2007 would still have to include a budget test for 2007.

If one of the CO attainment areas should monitor CO concentrations at or above the limited maintenance eligibility criteria or 7.65 parts per million then that maintenance area would no longer qualify for a limited maintenance plan and would revert to a full maintenance plan. In this event, the limited maintenance plan would remain applicable for conformity purposes only until the full maintenance plan is submitted and EPA has found its motor vehicle emissions budget adequate for conformity purposes or EPA approves the full maintenance plan SIP revision. At that time regional emissions analyses would resume as a transportation conformity criteria.

III. Revisions to the CO Motor Vehicle Emissions Budgets for Northern New Jersey

A. Are These Budgets Approvable?

The proposed maintenance plan revises the motor vehicle emissions budgets (budgets) for CO for the New Jersey portion of the New York-Northern New Jersey-Long Island, NY-NJ-CT CO maintenance area for the years 2007 and 2014, previously approved by EPA in the August 30, 2004 Federal Register (69 FR 52834). These revised budgets include an allocation of a portion of a “safety margin” established in the CO maintenance plan.

A “safety margin” is the difference between the attainment level of emissions (from all sources) and the projected level of emissions (from all sources) in the maintenance plan. The attainment level of emissions is the level of emissions during one of the years in which the area met the air quality health standard. For example, 1996 is the base year of Northern New Jersey's first ten-year maintenance plan, and the safety margin is calculated using the differences between 1996 and future year total emissions.

The total emissions in 1996 from mobile, stationary and area sources equaled 1365.31 tons per day of CO. New Jersey projected the CO emissions in Northern New Jersey from all sources for the years 2007 and 2014 to be 997.71 tons per day and 1071.93 tons per day, respectively. The CO safety margin for Northern New Jersey in 2007 and 2014 is calculated to be the difference between the total emissions in 1996 and the total emissions for each of the projected years, 367.60 tons per day for 2007 and 293.38 tons per day for 2014. The 2007 and 2014 CO emission projections reflecting the total of point, area and mobile source reductions are illustrated in Table 4.

Table 4.—CO Emissions and Safety Margin Determinations, Northern New Jersey
[Tons/day]
Source category | CO emissions: 1996 | CO emissions: 2007 | CO emissions: 2014
Total | 1365.31 | 997.71 | 1071.93
Safety Margin | N/A | 367.60 | 293.38

In the submittal the State requested to allocate the entire safety margin to both the 2007 and 2014 budgets. This approach provides the transportation sector with an adequate budget increase for the two future scenario years to account for changes in transportation-related emissions due to updated planning assumptions, while still meeting the requirements of the maintenance plan. The CO motor vehicle emissions budgets that include the safety margin allocations are outlined below in Table 5.

Table 5.—Carbon Monoxide Motor Vehicle Emissions Budgets
[Tons/day]
Year | Prior motor vehicle emissions budgets | Safety margin allocation | Final motor vehicle emissions budgets
2007 | 783.39 | 367.60 | 1150
2014 | 605.63 | 293.38 | 899

The planned allowable levels of CO emissions are projected to maintain the area's air quality consistent with the air quality health standard. The safety margin credit can be allocated to the transportation sector while maintaining air quality attainment. The total emission level, even with this allocation, will be below the attainment level, or safety level, and thus is acceptable.

These revised CO budgets are consistent with the State's emission baseline, projected inventories for highway mobile sources and use of a margin of safety. EPA is proposing to approve the 2007 and 2014 budgets for CO.

IV. Revisions to the NOX and VOC Motor Vehicle Emissions Budgets for Northern New Jersey

A. Are the Revised Motor Vehicle Emissions Budgets Consistent With New Jersey's 1-Hour Ozone Attainment Demonstration?

New Jersey is proposing to revise the 2005 and 2007 VOC and NOX motor vehicle emissions budgets (budgets) for the Northern New Jersey nonattainment area by setting new budgets based on updated planning assumptions. These updated budgets apply to the North Jersey Transportation Planning Authority. In its proposal, New Jersey included a relative reduction comparison to show that its 1-Hour Ozone Attainment Demonstration SIP continues to demonstrate attainment using revised inventories for the Northern New Jersey nonattainment area. New Jersey's attainment demonstration used photochemical grid modeling supplemented with weight of evidence. As such, the State's methodology for the relative reduction comparison consists of comparing the updated on-road mobile inventories with the previously approved (67 FR 5152) inventories for the Northern New Jersey nonattainment area to determine if attainment will still be predicted by the established attainment dates. Specifically, the State calculated the relative reductions (expressed as percent reductions) in ozone precursors between the previous 1996 base year and attainment year inventories. These percent reductions were then compared to the percent reductions between the revised 1996 base year and attainment year inventories.

New Jersey's relative reduction comparison shows that for the Northern New Jersey nonattainment area the percent reduction of VOC emissions achieved in the revised inventories is higher than the percent reduction previously calculated, however the percent reduction of NOX emissions achieved in the revised inventories is lower than the percent reduction previously calculated, and thus a slight NOX shortfall is indicated. New Jersey has previously demonstrated in its Rate of Progress SIP, approved by EPA on February 4, 2002 (67 FR 5152), that VOC or NOX emission reductions are equally valuable towards attaining the 1-hour ozone standard. Therefore, New Jersey substituted excess VOC emission reductions for NOX emission reductions, as allowed for under Section 182(c)(2)(C) of the Clean Air Act. To make such an equivalency demonstration, the State converted the percentage changes for VOC and NOX to +14.01 and −6.09 tons per day, respectively. Based on the emission inventories, New Jersey has determined for the Northern New Jersey nonattainment area that approximately 1.29 tons of VOC emissions equals 1 ton of NOX emissions, as the emissions relate to their potential to form ozone. Consistent with EPA's policy on substitution of ozone precursor emission reductions, New Jersey increased the NOX reductions and decreased VOC reductions by their equivalent amounts, resulting in offsetting effects with respect to ozone formation. Thus, the required emission reductions needed to attain the 1-hour ozone NAAQS are achieved for the Northern New Jersey nonattainment area, and the SIP continues to demonstrate attainment.

New Jersey's proposed SIP revision demonstrates that the new levels of motor vehicle emissions calculated using updated planning assumptions continue to support achievement of the projected attainment of the 1-Hour Ozone NAAQS by the attainment date of 2007 for the Northern New Jersey nonattainment area.

B. Are These Budgets Approvable?

Table 6 below summarizes New Jersey's revised budgets contained in the proposed SIP revision. These budgets were developed using the latest planning assumptions, including 2005 vehicle registration data, vehicle miles traveled (VMT), speeds, fleet mix, and SIP control measures and are for the North Jersey Transportation Planning Authority. The 2005 budgets are revised budgets based on the Reasonable Further Progress plan and the 2007 budgets are revised attainment year budgets. The increase in the NOX budget is attributed to the updated planning assumptions and does not necessarily indicate an actual increase in emissions. As described above, New Jersey, in its proposal, has demonstrated that attainment is not impacted by this revision.

Table 6.—Revised Motor Vehicle Emissions Budgets for the North Jersey Transportation Planning Authority
[Tons/day]
| VOC: 2005 | VOC: 2007 | NOX: 2005 | NOX: 2007
Previous | 148.27 | 125.82 | 253.05 | 198.34
Updated | 146.33 | 122.53 | 327.83 | 256.58

EPA is proposing to approve the revisions to the 2005 and 2007 budgets for VOC and NOX for the North Jersey Transportation Planning Authority.

V. PM2.5 Motor Vehicle Emissions Budgets for Northern New Jersey

A. Are these budgets approvable?

The proposed early progress PM2.5 SIP establishes motor vehicle emission budgets for 2009 for the New Jersey portion of the New York-Northern New Jersey-Long Island, NY-NJ-CT PM2.5 nonattainment area. The NY-NJ-CT PM2.5 nonattainment area and the Northern New Jersey portion thereof is violating the annual PM2.5 standard, and therefore these budgets are being established for annual emissions of direct PM2.5 and NOX, a PM2.5 precursor. Northern New Jersey and the larger nonattainment area are not violating and are significantly below the 24-hour PM2.5 standard, and EPA believes that the State has deemed that by attaining the annual standard they will continue to meet the 24-hour standard. Therefore, New Jersey did not address or establish budgets for the 24-hour PM2.5 standard in this SIP revision. These budgets are established for annual emissions of direct PM2.5 and NOX, a PM2.5 precursor. Other PM2.5 precursors (VOC, SOX, and NH3) were not found to be significant by either New Jersey or EPA prior to this submittal and were not included in the motor vehicle emissions budgets. Additionally, fugitive dust emissions, which include re-entrained road dust and transportation-related construction dust, were not found to be significant by either New Jersey or EPA and were not included in the budgets. However, approval of these budgets does not preclude New Jersey or EPA from finding any of the above precursors or fugitive dust to be significant contributors to nonattainment of the PM2.5 standard in the future. New Jersey may choose to include any or all precursors and fugitive dust in future SIP submittals.

EPA allows for the establishment of motor vehicle emission budgets for PM2.5 prior to the state submitting its first required PM2.5 SIP (69 FR 40028). These budgets are set through the establishment of an early SIP that meets all the requirements of a SIP submittal, and in which emissions from all sources, when projected from the base to a future year, show some progress toward attainment. EPA has interpreted the phrase “some progress toward attainment” to mean a 5% to 10% reduction in emissions from all sources (69 FR 40019). For this SIP submittal emissions were projected from the 2002 base year to 2009, the attainment year.

Submittal of this early progress SIP does not satisfy the requirement to submit a full PM2.5 attainment SIP. New Jersey may revise the 2009 budgets in the PM2.5 attainment SIP with appropriate supporting documentation.

The total annual emissions in 2002 from mobile, stationary and area sources for Northern New Jersey equaled 13,952 tons per year of direct PM2.5 and 236,251 tons per year of NOX. New Jersey projected the PM2.5 and NOX emissions from all sources for 2009 to be 13,049 tons per year of direct PM2.5 and 159,990 tons per year of NOX. This represents a 6.5% reduction in direct PM2.5 and a 32.3% reduction in NOX emissions from 2002 to 2009, thereby meeting EPA's 5% to 10% minimum reduction guideline. The 2002 and 2009 emission projections reflecting the point, area and mobile source reductions are illustrated in Tables 7 and 8.

Table 7.—Direct PM2.5 Emissions, NJ Portion of the NY-NJ-CT Nonattainment Area
[Tons/year]
Source category | Direct PM2.5 emissions: 2002 | Direct PM2.5 emissions: 2009 | Direct PM2.5 emissions: Percent change
On-Road | 2,220 | 1,296 | −42
Nonroad | 3,206 | 2,788 | −13
Stationary | 2,790 | 3,035 | 9
Area | 5,736 | 5,930 | 3
Total | 13,952 | 13,049 | −6.5

Table 8.—NOX Emissions, NJ Portion of the NY-NJ-CT Nonattainment Area
[Tons/year]
Source category | NOX emissions: 2002 | NOX emissions: 2009 | NOX emissions: Percent change
On-Road | 137,701 | 66,004 | −52
Nonroad | 45,957 | 37,694 | −18
Stationary | 34,420 | 36,804 | 7
Area | 18,173 | 19,488 | 7
Total | 236,251 | 159,990 | −32.3

A detailed review of the 2002 PM2.5 and NOX annual emission inventories are covered in section VII. A. of this notice. Tables 11 and 12 present a summary of 2002 PM2.5 and NOX annual emission estimates by source sector and by county for the New Jersey portion of the New York-Northern New Jersey-Long Island, NY-NJ-CT PM2.5 nonattainment area.

In the submittal, the State has established “sub-area budgets” for the two metropolitan planning organizations (MPO) within the New Jersey portion of the larger PM2.5 nonattainment area, the North Jersey Transportation Planning Authority (NJTPA) and the Delaware Valley Regional Planning Commission (DVRPC). These sub-area budgets allow each MPO to work independently to demonstrate conformity by meeting its own PM2.5 and NOX budgets. Each MPO must still verify, however, that the other MPO currently has a conforming long range transportation plan and transportation improvement program (TIP) prior to making a new plan/TIP conformity determination. The sub-area budgets are listed in Table 9.

Table 9.—2009 Sub-Area Motor Vehicle Emissions Budgets NY-NJ-CT Nonattainment Area
[Tons/year]
MPO | Direct PM2.5 | NOX
NJTPA ¹ | 1,207 | 61,676
DVRPC ² | 89 | 4,328
¹ Covers Bergen, Essex, Hudson, Middlesex, Monmouth, Morris, Passaic, Somerset, and Union Counties.
² Covers Mercer County only.

The proposed 2009 PM2.5 budgets are consistent with the State's 2002 emission baseline and 2009 projected inventories for highway mobile sources, as described in Sections VII.A. and B. of this notice. EPA is therefore proposing to approve the 2009 sub-area budgets for direct PM2.5 and NOX, because these budgets meet all applicable requirements.

These budgets are currently undergoing a process to find if they are adequate for transportation conformity purposes prior to EPA's final SIP action. Once budgets are deemed adequate, they may be used in making conformity determinations. EPA believes that the proposed 2009 budgets meet EPA's adequacy criteria (40 CFR 93.118(e)(4)) and, through a separate process, is taking comments through April 24, 2006 prior to making an adequacy determination. For more information on the adequacy process please see EPA's adequacy Web site: http://www.epa.gov/otaq/stateresources/transconf/adequacy.htm. The adequacy process is separate from the SIP approval process; therefore, these budgets may be found adequate prior to EPA finalizing any approval action for this SIP. The result of EPA's adequacy finding will be published in the Federal Register.

VI. Revisions to the General Conformity Budget for McGuire Air Force Base

A. Are These Budgets Approvable?

New Jersey is proposing to update the 1-hour ozone general conformity emissions budgets for the McGuire Air Force Base previously approved by EPA in the July 23, 2003 Federal Register (68 FR 43462). Due to McGuire Air Force Base's vital role in the national defense and need to have operational flexibility in order to meet its present and future emissions, New Jersey is proposing a change to the 2005 emissions budgets. The year 2005 NOX budget is being increased by 450 tons per year and the VOC budget is being decreased by 468 tons per year. This budget will be used in preparation for a new budget to be determined by the 8-hour ozone attainment demonstration. New Jersey is proposing this change consistent with EPA's policy on substitution of ozone precursor emission reductions. Based on the emission inventories, New Jersey has determined for the Trenton nonattainment area that approximately 1 ton per year of NOX emissions equals 1.04 tons per year of VOC emissions, as the emissions relate to their potential to form ozone. Thus, increasing NOX and decreasing VOC by their equivalent amounts results in offsetting effects with respect to ozone formation. The VOC emission reduction has been achieved through the implementation of pollution prevention measures. Table 10 below summarizes the revised general conformity budgets. The revised 2005 budgets would apply to 2005 and all future years until new budgets are established based on the 8-hour ozone attainment demonstration. EPA is proposing to approve the revised 2005 general conformity emissions budgets.

Table 10.—McGuire Air Force Base General Conformity Emissions Budgets
| Previously approved budgets: VOC (tons/year) | Previously approved budgets: NOX (tons/year) | New budgets: VOC (tons/year) | New budgets: NOX (tons/year)
2005 ¹ | 1,198 | 1,084 | 730 | 1,534
¹ 2005 budgets updated such that the increase in NOX is offset by a decrease in VOC, resulting in no expected net increase in ozone formation.

VII. New Jersey Emissions Inventory

A. 2002 Base Year Inventory

On November 18, 2002, EPA designated the 2002 base year inventory as the inventory for SIP planning process to address the pollutants for the eight hour-ozone, PM2.5 and CO national ambient air quality standards. Identifying the base year gives certainty to States, and the selection of 2002 harmonizes the date for EPA's Consolidated Emissions Reporting rule (See 67 FR 39602 dated June 10, 2002), which requires submission of the ozone, PM2.5 and CO emission inventories every three years; 2002 is one of the required years for such updates. These requirements allow the EPA, based on the state's progress in reducing emissions, to periodically reassess its policies and air quality standards and revise them as necessary. Most important, the 2002 ozone, PM2.5 and CO inventories will be used to develop and assess new control strategies that the states will need to submit in their attainment demonstration SIPs for the national ambient air quality standards for ozone, PM2.5 and CO. The base year inventory plays an important role in modeling demonstrations for areas classified as nonattainment and transport regions. The base year inventory may also serve as part of statewide inventories for purposes of regional modeling in transport areas. For the reasons stated above, EPA would therefore emphasize the importance and benefits of developing comprehensive, current, and accurate 2002 ozone, PM2.5 and CO emission inventories.

There are specific components of an acceptable emission inventory. The emission inventory must meet certain minimum requirements for reporting each source category. Specifically, the source requirements are detailed below.

The review process, which is described in supporting documentation, is used to determine that all components of the base year inventory are present. This review also evaluates the level of supporting documentation provided by the state, assesses whether the emissions were developed according to current EPA guidance, and evaluates the quality of the data.

The review process is outlined here and consists of 9 points that the inventory must include. For a base year emission inventory to be acceptable, it must pass all of the following acceptance criteria:

1. Evidence that the inventory was quality assured by the state and its implementation documented.

2. The point source inventory was complete.

3. Point source emissions were prepared or calculated according to the current EPA guidance.

4. The area source inventory was complete.

5. The area source emissions were prepared or calculated according to the current EPA guidance.

6. Biogenic emissions were prepared according to current EPA guidance or another approved technique.

7. Non-road mobile emissions were prepared according to current EPA guidance for all of the source categories.

8. The method (e.g., HPMS or a network transportation planning model) used to develop VMT estimates followed EPA guidance.

9. The MOBILE model was correctly used to produce emission factors for each of the vehicle classes.

Based on EPA's review, New Jersey satisfied all of EPA's requirements for purposes of providing a comprehensive, accurate, and current inventory of actual emissions for ozone, PM2.5 and CO nonattainment areas. Where applicable, annual emissions are provided for VOC, NOX, CO, PM2.5, PM10, NH3 and SO2 emissions; VOC, NOX and CO peak summer season daily emissions are provided for ozone nonattainment areas and CO peak winter season daily emissions are provided for CO nonattainment areas. The inventory was developed in accordance with Emission Inventory Guidance for Implementation of ozone and Particulate Matter NAAQS and Regional Haze Regulation, dated August 2005. A summary of EPA's review is given below:

1. The Quality Assurance (QA) plan was implemented for all portions of the inventory. The QA plan included a QA/Quality control (QC) program for assessing data completeness and standard range checking. Critical data elements relative to the inventory sources were assessed for completeness. QA checks were performed relative to data collection and analysis, and double counting of emissions from point, area and mobile sources. QA/QC checks were conducted to ensure accuracy of units, unit conversions, transposition of figures, and calculations.

2. The inventory is well documented. New Jersey provided documentation detailing the methods used to develop emissions estimates for each category. In addition, New Jersey identified the sources of data used in developing the inventory.

3. The point source emissions are complete in accordance with EPA guidance.

4. The point source emissions were prepared/calculated in accordance with EPA guidance.

5. The area source emissions are complete and were prepared/calculated in accordance with EPA guidance.

6. Biogenic emissions were prepared/calculated using the EPA's Biogenic Emission Inventory System Model version 3.12 in accordance with EPA guidance.

7. Emission estimates for the non-road mobile source categories were correctly based on the latest nonroad mobile model and prepared in accordance with EPA guidance.

8. The method used to develop VMT estimates was in accordance with EPA guidance and was adequately described and documented in the inventory report.

9. Mobile model 6.2.03 was used correctly for each of the vehicle classes.

The 2002 base year inventory has been developed in accordance with EPA guidance. Therefore, EPA is proposing to approve the 2002 base year VOC, NOX, CO, PM2.5, PM10, NH3 and SO2 emission inventories.

A more detailed discussion of how the emission inventory was reviewed and the results of the review are presented in the technical support document. Detailed emission inventory development procedures can be found in the following document: Emission Inventory Guidance for Implementation of ozone and Particulate Matter NAAQS and Regional Haze Regulation, dated August 2005.

Tables 11 and 12 present a summary of 2002 PM2.5 and NOX annual emission estimates by source sector and by county for the New Jersey portion of the New York-Northern New Jersey-Long Island, NY-NJ-CT PM2.5 nonattainment area. Tables 13, 14 and 15 present a summary of VOC, NOX and CO peak summer season daily emissions by source sector by county in New Jersey. Tables 16 through 22 present a summary of the 2002 VOC, NOX, CO, PM2.5, NH3, PM10, and SO2 annual emissions by source sector by county in New Jersey. Section II.B.1, Tables 1 and 2 present CO peak winter season daily emissions.

Table 11.—2002 Annual PM2.5 Base Year Inventory, the New Jersey Portion of the New York-Northern New Jersey-Long Island, NY-NJ-CT PM2.5 Nonattainment Area
[In tons/year]
County | Point | Area | Nonroad mobile | Onroad mobile
Bergen | 149 | 537 | 478 | 376
Essex | 185 | 411 | 393 | 291
Hudson | 1,077 | 269 | 345 | 134
Mercer | 188 | 530 | 203 | 141
Middlesex | 483 | 467 | 346 | 347
Monmouth | 55 | 981 | 501 | 244
Morris | 39 | 1,284 | 280 | 209
Passaic | 19 | 543 | 178 | 141
Somerset | 55 | 441 | 149 | 152
Union | 540 | 272 | 333 | 185
Total | 2,790 | 5,736 | 2,788 | 2,200

Table 12.—2002 Annual NOX Base Year Inventory, the New Jersey Portion of the New York-Northern New Jersey-Long Island, NY-NJ-CT PM2.5 Nonattainment Area
[In tons/year]
County | Point | Area | Nonroad mobile | Onroad mobile
Bergen | 988 | 2,815 | 6,707 | 23,917
Essex | 2,441 | 2,436 | 8,137 | 16,537
Hudson | 9,674 | 1,735 | 5,976 | 7,853
Mercer | 13,034 | 1,257 | 2,427 | 8,505
Middlesex | 3,567 | 2,343 | 4,849 | 22,147
Monmouth | 240 | 1,806 | 4,316 | 14,860
Morris | 284 | 1,752 | 3,151 | 13,758
Passaic | 122 | 1,361 | 2,413 | 8,748
Somerset | 313 | 1,048 | 2,097 | 9,090
Union | 3,757 | 1,621 | 5,883 | 12,294
Total | 34,420 | 18,173 | 45,957 | 137,701

Table 13.—2002 Statewide VOC Summer Season Daily Emission Inventory
[By county and source sector]
County | VOC tons per day: Point sources | VOC tons per day: Area sources | VOC tons per day: Onroad mobile source | VOC tons per day: Nonroad mobile sources | VOC tons per day: Biogenic
Atlantic | 0.15 | 11.04 | 12.85 | 10.25 | 40.38
Bergen | 5.72 | 36.86 | 36.09 | 22.05 | 4.60
Burlington | 4.02 | 17.54 | 15.80 | 10.01 | 39.84
Camden | 1.23 | 22.68 | 13.80 | 7.23 | 20.06
Cape May | 0.20 | 5.26 | 4.72 | 22.61 | 19.55
Cumberland | 0.46 | 8.93 | 5.37 | 11.03 | 28.41
Essex | 2.95 | 31.53 | 18.26 | 11.92 | 3.40
Gloucester | 32.01 | 20.39 | 9.10 | 5.91 | 16.83
Hudson | 7.33 | 21.09 | 9.10 | 5.22 | 3.27
Hunterdon | 0.64 | 5.49 | 5.99 | 3.66 | 12.44
Mercer | 2.13 | 13.06 | 11.60 | 7.01 | 12.65
Middlesex | 16.08 | 34.87 | 26.00 | 14.58 | 12.78
Monmouth | 1.37 | 24.65 | 22.26 | 21.26 | 22.00
Morris | 1.27 | 20.81 | 18.87 | 15.09 | 13.75
Ocean | 0.26 | 24.01 | 14.30 | 21.54 | 43.80
Passaic | 1.99 | 19.84 | 10.22 | 6.62 | 11.04
Salem | 4.92 | 3.47 | 4.23 | 3.37 | 18.64
Somerset | 0.73 | 12.29 | 10.65 | 6.87 | 12.20
Sussex | 0.25 | 5.69 | 4.62 | 3.86 | 20.48
Union | 26.56 | 25.26 | 15.92 | 7.75 | 2.31
Warren | 2.88 | 5.07 | 4.99 | 2.78 | 13.50
Total in State | 113.15 | 369.83 | 274.74 | 220.60 | 371.95

Table 14.—2002 Statewide NOX Summer Season Daily Emission Inventory
[By county and source sector]
County | NOX tons per day: Point sources | NOX tons per day: Area sources | NOX tons per day: Onroad mobile sources | NOX tons per day: Nonroad mobile sources | NOX tons per day: Biogenic
Atlantic | 1.67 | 1.17 | 24.50 | 6.26 | 0.21
Bergen | 3.64 | 3.83 | 63.24 | 23.38 | 0.07
Burlington | 12.35 | 1.77 | 31.10 | 12.88 | 0.26
Camden | 2.69 | 2.10 | 27.00 | 9.44 | 0.21
Cape May | 19.15 | 0.42 | 8.82 | 5.92 | 0.19
Cumberland | 10.50 | 0.65 | 10.61 | 7.94 | 0.34
Essex | 16.18 | 3.31 | 44.06 | 25.70 | 0.07
Gloucester | 14.48 | 1.01 | 18.50 | 8.01 | 0.19
Hudson | 51.61 | 2.24 | 21.05 | 20.71 | 0.07
Hunterdon | 9.47 | 0.54 | 17.17 | 4.70 | 0.19
Mercer | 47.87 | 1.72 | 22.70 | 9.32 | 0.20
Middlesex | 44.47 | 3.33 | 58.00 | 17.54 | 0.16
Monmouth | 0.86 | 2.23 | 38.15 | 15.74 | 0.22
Morris | 1.18 | 2.40 | 35.06 | 11.58 | 0.12
Ocean | 3.68 | 2.39 | 24.65 | 7.57 | 0.27
Passaic | 0.68 | 1.79 | 23.01 | 8.88 | 0.10
Salem | 15.26 | 0.31 | 11.91 | 3.21 | 0.32
Somerset | 3.60 | 1.44 | 23.85 | 7.57 | 0.15
Sussex | 0.21 | 0.57 | 7.47 | 2.46 | 0.15
Union | 18.88 | 2.26 | 32.22 | 20.25 | 0.08
Warren | 1.93 | 0.47 | 15.60 | 2.48 | 0.22
Total in State | 280.36 | 35.92 | 558.66 | 231.56 | 3.78

Table 15.—2002 Statewide CO Summer Season Daily Emission Inventory
[By county and source sector]
County | CO tons per day: Point sources | CO tons per day: Area sources | CO tons per day: Onroad mobile sources | CO tons per day: Nonroad mobile sources | CO tons per day: Biogenic
Atlantic | 0.36 | 2.66 | 155.53 | 70.26 | 2.96
Bergen | 2.36 | 2.07 | 324.50 | 358.25 | 0.54
Burlington | 1.48 | 1.97 | 168.90 | 121.35 | 3.33
Camden | 3.28 | 6.89 | 145.90 | 112.44 | 1.57
Cape May | 2.18 | 0.66 | 53.58 | 80.06 | 1.54
Cumberland | 1.56 | 1.13 | 56.91 | 50.35 | 2.28
Essex | 3.61 | 2.40 | 187.93 | 182.98 | 0.45
Gloucester | 3.27 | 1.54 | 99.80 | 77.69 | 1.41
Hudson | 9.42 | 1.22 | 87.49 | 68.72 | 0.44
Hunterdon | 6.43 | 1.03 | 64.94 | 48.31 | 1.60
Mercer | 1.51 | 1.37 | 122.70 | 104.18 | 1.42
Middlesex | 34.20 | 2.54 | 287.54 | 228.84 | 1.16
Monmouth | 1.28 | 1.79 | 227.22 | 212.60 | 1.98
Morris | 2.24 | 2.35 | 209.14 | 227.91 | 1.42
Ocean | 1.21 | 29.78 | 135.96 | 143.85 | 3.89
Passaic | 0.40 | 1.23 | 105.86 | 98.09 | 1.13
Salem | 2.28 | 0.57 | 49.04 | 21.42 | 1.63
Somerset | 5.96 | 1.16 | 112.52 | 107.75 | 1.40
Sussex | 0.33 | 1.80 | 42.35 | 37.57 | 2.00
Union | 3.87 | 1.11 | 162.44 | 118.31 | 0.36
Warren | 2.12 | 1.19 | 56.12 | 26.89 | 1.58
Total in State | 89.35 | 66.45 | 2,856.37 | 2,497.80 | 34.09

Table 16.—2002 Statewide VOC Annual Emission Inventory
[By county and source sector]
County | VOC tons per year: Point sources | VOC tons per year: Area sources | VOC tons per year: Onroad mobile sources | VOC tons per year: Nonroad mobile sources | VOC tons per year: Biogenic
Atlantic | 52 | 5,492 | 3,613 | 3,521 | 14,748
Bergen | 773 | 11,243 | 14,048 | 6,361 | 1,681
Burlington | 927 | 7,057 | 6,278 | 3,000 | 14,552
Camden | 453 | 7,228 | 5,512 | 2,110 | 7,326
Cape May | 39 | 2,474 | 1,348 | 8,480 | 7,140
Cumberland | 102 | 3,208 | 1,492 | 4,196 | 10,377
Essex | 791 | 9,568 | 7,238 | 3,739 | 1,244
Gloucester | 11,560 | 7,032 | 3,650 | 1,686 | 6,148
Hudson | 2,104 | 6,628 | 3,567 | 1,617 | 1,195
Hunterdon | 144 | 2,468 | 2,441 | 1,038 | 4,545
Mercer | 446 | 4,445 | 4,636 | 1,922 | 4,619
Middlesex | 4,366 | 10,594 | 10,478 | 4,115 | 4,669
Monmouth | 287 | 8,477 | 8,973 | 6,996 | 8,036
Morris | 309 | 7,947 | 7,662 | 4,211 | 5,024
Ocean | 76 | 7,746 | 5,792 | 7,714 | 15,998
Passaic | 253 | 6,537 | 4,109 | 2,081 | 4,034
Salem | 1,034 | 1,516 | 1,205 | 1,162 | 6,809
Somerset | 224 | 4,075 | 4,311 | 1,898 | 4,455
Sussex | 38 | 3,656 | 1,881 | 1,490 | 7,479
Union | 5,382 | 7,652 | 6,354 | 2,237 | 843
Warren | 809 | 2,631 | 2,001 | 832 | 4,931
Total in State | 30,169 | 127,673 | 106,589 | 70,407 | 135,851

Table 17.—2002 Statewide NOX Annual Emission Inventory
[By county and source sector]
County | NOX tons per year: Point sources | NOX tons per year: Area sources | NOX tons per year: Onroad mobile sources | NOX tons per year: Nonroad mobile sources | NOX tons per year: Biogenic
Atlantic | 129 | 964 | 6,764 | 1,771 | 78
Bergen | 988 | 2,815 | 23,917 | 6,707 | 25
Burlington | 1,273 | 1,424 | 11,644 | 3,776 | 97
Camden | 776 | 1,523 | 10,074 | 2,669 | 77
Cape May | 3,819 | 357 | 2,433 | 1,959 | 68
Cumberland | 1,778 | 469 | 2,883 | 2,574 | 125
Essex | 2,441 | 2,436 | 16,537 | 8,137 | 27
Gloucester | 4,645 | 800 | 6,899 | 2,200 | 71
Hudson | 9,776 | 1,735 | 7,853 | 5,976 | 27
Hunterdon | 491 | 424 | 6,444 | 1,223 | 69
Mercer | 13,034 | 1,257 | 8,505 | 2,427 | 72
Middlesex | 3,651 | 2,343 | 22,147 | 4,849 | 58
Monmouth | 240 | 1,806 | 14,860 | 4,316 | 79
Morris | 284 | 1,752 | 13,748 | 3,151 | 43
Ocean | 395 | 1,507 | 9,538 | 2,138 | 98
Passaic | 122 | 1,361 | 8,748 | 2,413 | 38
Salem | 3,267 | 227 | 3,185 | 932 | 116
Somerset | 313 | 1,048 | 9,090 | 2,097 | 54
Sussex | 39 | 495 | 2,936 | 615 | 55
Union | 4,080 | 1,621 | 12,294 | 5,883 | 28
Warren | 580 | 379 | 5,782 | 631 | 79
Total in State | 52,121 | 26,742 | 206,280 | 66,443 | 1,382

Table 18.—2002 Statewide CO Annual Emission Inventory
[By county and source sector]
County | CO tons per year: Point sources | CO tons per year: Area sources | CO tons per year: Onroad mobile sources | CO tons per year: Nonroad mobile sources | CO tons per year: Biogenic
Atlantic | 66 | 10,726 | 53,885 | 19,798 | 1,080
Bergen | 619 | 1,453 | 166,589 | 93,002 | 199
Burlington | 413 | 9,709 | 83,768 | 31,350 | 1,216
Camden | 1,154 | 3,789 | 72,489 | 29,402 | 574
Cape May | 311 | 4,145 | 18,758 | 26,265 | 562
Cumberland | 126 | 3,196 | 19,994 | 15,941 | 831
Essex | 624 | 1,306 | 96,967 | 53,407 | 164
Gloucester | 1,029 | 4,513 | 49,458 | 19,203 | 516
Hudson | 2,058 | 896 | 44,767 | 20,015 | 161
Hunterdon | 259 | 3,973 | 34,283 | 11,896 | 585
Mercer | 323 | 2,567 | 61,101 | 25,685 | 518
Middlesex | 3,034 | 1,309 | 149,288 | 57,965 | 424
Monmouth | 381 | 5,252 | 118,952 | 55,614 | 722
Morris | 266 | 8,121 | 109,947 | 56,136 | 519
Ocean | 271 | 10,563 | 72,072 | 40,914 | 1,420
Passaic | 68 | 2,985 | 55,414 | 26,769 | 412
Salem | 487 | 2,389 | 17,071 | 5,991 | 595
Somerset | 226 | 2,079 | 59,270 | 26,731 | 511
Sussex | 83 | 8,995 | 23,055 | 10,883 | 731
Union | 1,012 | 794 | 84,178 | 31,780 | 133
Warren | 444 | 5,306 | 29,700 | 7,198 | 578
Total in State | 13,254 | 94,067 | 1,421,004 | 665,944 | 12,451

Table 19.—2002 Statewide PM2.5 Annual Emission Inventory
[By county and source sector]
County | PM2.5 tons per year: Point sources | PM2.5 tons per year: Area sources | PM2.5 tons per year: Onroad mobile sources | PM2.5 tons per year: Nonroad mobile sources | PM2.5 tons per year: Biogenic
Atlantic | 19 | 1,541 | 104 | 225 | NA
Bergen | 149 | 537 | 376 | 478 | NA
Burlington | 308 | 1,448 | 193 | 413 | NA
Camden | 233 | 754 | 167 | 228 | NA
Cape May | 109 | 637 | 40 | 468 | NA
Cumberland | 280 | 495 | 52 | 374 | NA
Essex | 185 | 411 | 291 | 393 | NA
Gloucester | 426 | 754 | 112 | 222 | NA
Hudson | 1,077 | 269 | 134 | 345 | NA
Hunterdon | 50 | 644 | 111 | 103 | NA
Mercer | 188 | 530 | 141 | 203 | NA
Middlesex | 483 | 467 | 347 | 346 | NA
Monmouth | 55 | 981 | 244 | 501 | NA
Morris | 39 | 1,284 | 209 | 280 | NA
Ocean | 38 | 1,734 | 160 | 409 | NA
Passaic | 19 | 543 | 141 | 178 | NA
Salem | 371 | 377 | 57 | 122 | NA
Somerset | 55 | 441 | 152 | 149 | NA
Sussex | 5 | 1,301 | 54 | 89 | NA
Union | 540 | 272 | 185 | 333 | NA
Warren | 240 | 809 | 92 | 64 | NA
Total in State | 4,868 | 16,230 | 3,361 | 5,922 | NA

Table 20.—2002 Statewide NH3 Annual Emission Inventory
[By county and source sector]
County | PM2.5 tons per year: Point sources | PM2.5 tons per year: Area sources | PM2.5 tons per year: Onroad mobile sources | PM2.5 tons per year: Nonroad mobile sources | PM2.5 tons per year: Biogenic
Atlantic | 0 | 184 | 297 | 13 | 329
Bergen | 0 | 543 | 821 | 163 | 863
Burlington | 0 | 522 | 454 | 39 | 520
Camden | 0 | 281 | 393 | 46 | 518
Cape May | 5 | 86 | 107 | 6 | 130
Cumberland | 1 | 310 | 118 | 20 | 203
Essex | 0 | 598 | 492 | 82 | 762
Gloucester | 0 | 445 | 265 | 22 | 274
Hudson | 14 | 461 | 222 | 56 | 572
Hunterdon | 0 | 569 | 187 | 14 | 164
Mercer | 3 | 310 | 331 | 41 | 347
Middlesex | 11 | 492 | 765 | 108 | 746
Monmouth | 0 | 399 | 628 | 47 | 651
Morris | 0 | 273 | 572 | 75 | 544
Ocean | 0 | 258 | 396 | 21 | 616
Passaic | 0 | 264 | 292 | 65 | 505
Salem | 1 | 463 | 97 | 7 | 89
Somerset | 0 | 423 | 317 | 43 | 309
Sussex | 0 | 296 | 135 | 8 | 235
Union | 3 | 456 | 425 | 82 | 501
Warren | 0 | 371 | 152 | 12 | 153
Total in State | 38 | 8,005 | 7,469 | 970 | 9,032

Table 21.—2002 Statewide PM10 Annual Emission Inventory
[By county and source sector]
County | PM10 tons per year: Point sources | PM10 tons per year: Area sources | PM10 tons per year: Onroad mobile sources | PM10 tons per year: Nonroad mobile sources | PM10 tons per year: Biogenic
Atlantic | 17 | 1,863 | 154 | 248 | NA
Bergen | 135 | 981 | 524 | 524 | NA
Burlington | 318 | 2,145 | 275 | 471 | NA
Camden | 126 | 1,210 | 238 | 249 | NA
Cape May | 102 | 799 | 58 | 509 | NA
Cumberland | 266 | 721 | 73 | 407 | NA
Essex | 203 | 646 | 389 | 444 | NA
Gloucester | 531 | 1,169 | 161 | 242 | NA
Hudson | 1,705 | 431 | 179 | 375 | NA
Hunterdon | 50 | 1,115 | 148 | 113 | NA
Mercer | 221 | 967 | 201 | 224 | NA
Middlesex | 537 | 1,162 | 486 | 376 | NA
Monmouth | 48 | 1,575 | 352 | 545 | NA
Morris | 46 | 1,813 | 305 | 309 | NA
Ocean | 39 | 2,377 | 229 | 446 | NA
Passaic | 18 | 835 | 195 | 194 | NA
Salem | 435 | 590 | 77 | 132 | NA
Somerset | 76 | 984 | 211 | 164 | NA
Sussex | 6 | 1,667 | 77 | 99 | NA
Union | 434 | 512 | 261 | 362 | NA
Warren | 240 | 1,195 | 123 | 71 | NA
Total in State | 5,555 | 24,760 | 4,718 | 6,505 | NA

Table 22.—2002 Statewide SO2 Annual Emission Inventory
[By county and source sector]
County | SO2 tons per year: Point sources | SO2 tons per year: Area sources | SO2 tons per year: Onroad mobile sources | SO2 tons per year: Nonroad mobile sources | SO2 tons per year: Biogenic
Atlantic | 10 | 498 | 202 | 176 | NA
Bergen | 82 | 819 | 634 | 620 | NA
Burlington | 286 | 459 | 361 | 2,462 | NA
Camden | 162 | 506 | 313 | 1,057 | NA
Cape May | 12,178 | 163 | 75 | 993 | NA
Cumberland | 665 | 412 | 89 | 2,115 | NA
Essex | 2,110 | 1,078 | 429 | 980 | NA
Gloucester | 5,431 | 390 | 211 | 1,243 | NA
Hudson | 19,250 | 625 | 196 | 1,582 | NA
Hunterdon | 18 | 391 | 163 | 123 | NA
Mercer | 14,379 | 450 | 264 | 501 | NA
Middlesex | 504 | 689 | 590 | 612 | NA
Monmouth | 55 | 510 | 453 | 929 | NA
Morris | 52 | 798 | 403 | 276 | NA
Ocean | 38 | 652 | 290 | 216 | NA
Passaic | 26 | 494 | 231 | 223 | NA
Salem | 4,590 | 156 | 85 | 673 | NA
Somerset | 41 | 273 | 250 | 180 | NA
Sussex | 0 | 566 | 98 | 69 | NA
Union | 1,253 | 602 | 321 | 1,680 | NA
Warren | 101 | 345 | 134 | 63 | NA
Total in State | 61,231 | 10,876 | 5,793 | 16,772 | NA

B. 2009 Projection Year Inventory

New Jersey included in its submittal 2009 projection year inventories with post-2002 controls showing that future emissions will be less than 5 percent of those contained in the 2002 base year emissions inventory. Annual PM2.5 and NOX point, area, nonroad mobile and onroad mobile emissions were projected from 2002 base year to 2009. New Jersey did so using the appropriate growth factors and methodologies, in a manner acceptable to EPA.

The development of the projection year inventory involved several methodologies depending on the source category in question. This depended heavily upon what type of indicator was considered to have a significant impact on emissions. In all cases mentioned below, the 2002 emissions were grown to the 2009 projection year:

1. Major point sources were grown using growth factors from EPA EGAS model version 4.0 for all point sources except those that combust fuel. For combustion sources, projection data were obtained from the Annual Energy Outlook report produced by the U.S. Department of Energy's (DOE) Energy Information Administration (EIA).

2. Area sources were grown using growth factors from EPA EGAS model version 4.0 for all area sources except those that combust fuel. For combustion sources, projection data were obtained from the Annual Energy Outlook report produced by the DOE-EIA.

3. Nonroad mobile source emissions were developed by conducting independent runs for 2009 emission inventories by using the NONROAD 2004 emissions model.

4. Aircraft emissions were developed for 2002 using landings and take offs (LTO) operation numbers for each aircraft type into the Emissions and Dispersion Modeling Systems for NOX emissions, and PM2.5 emission factors were used with LTO data to estimate PM2.5 annual emissions. Growth factors from FAA database based on future flight operations were used to project emissions from 2002 to 2009.

5. Commercial Marine Vessels (CMV) emissions were grown from 2002-2009 based on an extensive review of historical trends in the different types of CMV calling in on the Northern New Jersey ports to project CMV growth. This information was obtained from the Maritime Association of the Port of New York and New Jersey.

6. Calendar year 2009 onroad mobile source emission factor data were generated from the Mobile 6.2.03 model. Emission factors from the model were then applied to actual and projected VMT and fleet distribution data based on annual or projection measurements of VMT taken from the Transportation Demand Model and Highway Performance Monitoring System from the North Jersey Transportation Planning Authority and Delaware Valley Regional Planning Commission.

EPA finds the methodologies for all sources to be acceptable in accordance with EPA guidance for inventory budget planning purposes.

A summary of the 2009 annual PM2.5 and NOX emissions in the New Jersey portion of the New York-Northern New Jersey-Long Island NY-NJ-CT PM2.5 nonattainment area is found in section V. of this notice. A more detailed discussion of how the 2009 emission inventory was reviewed and the results are presented in the technical support document.

VIII. Conclusions

EPA has evaluated New Jersey's submittals for consistency with the Act and Agency regulations and policy. EPA is proposing to approve New Jersey's CO limited maintenance plan because it meets the requirements set forth in section 175A of the Act and continues to demonstrate that the NAAQS for CO will continue to be met for the next ten years. EPA is proposing to approve the revisions to the CO, NOX, VOC, and PM2.5 motor vehicle emissions budgets for Northern New Jersey. Finally, this notice also proposes to approve revisions to the general conformity budget for McGuire Air Force Base and the 2002 base year emission inventories.

Note that New Jersey will be submitting additional information on the emission inventories. EPA will consider all information submitted prior to any final rulemaking action as a supplement or amendment to the February 21, 2006 submittal.

EPA views the SIP revisions proposed in today's proposal as separable actions. This means that if EPA receives adverse comments on particular portions of this notice and not on other portions, EPA may choose not to take final action at the same time in a single notice on all of these SIP revisions. Instead, EPA may choose to take final action on these SIP revisions in separate notices.

Interested parties may participate in the Federal rulemaking procedure by submitting written comments to the EPA Region 2 Office by one of the methods discussed in the ADDRESSES section of this action.

IX. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Pub. L. 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely proposes to approve a state rule implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This proposed rule does not impose an information collection burden under the provisions of the Paperwork Reduction Act of 1995 (44 U.S.C. 3501 et seq.).

List of Subjects in 40 CFR Part 52

Environmental protection, Air pollution control, Carbon monoxide, Intergovernmental relations, Ozone, Particulate matter, Reporting and recordkeeping requirements, Volatile organic compounds.

Authority: 42 U.S.C. 7401 et seq.

Dated: April 28, 2006.
Alan J. Steinberg,
Regional Administrator, Region 2.

[FR Doc. 06-4287 Filed 5-8-06; 8:45 am]

BILLING CODE 6560-50-P